DEPARTMENT OF HEALTH AND HUMAN SERVICES

Centers for Medicare & Medicaid Services

[Document Identifier: CMS-276 and CMS-339]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Reinstatement with change of a previously approved collection; Title: Prepaid Health Plan Cost Report; Use: Health Maintenance Organizations and Competitive Medical Plans (HMO/CMPs) contracting with the Secretary under Section 1876 of the Social Security Act are required to submit a budget and enrollment forecast, semi-annual interim report, interim final cost report, and a final certified cost report in accordance with 42 CFR 417.572-417.576. Health Care Prepayment Plans (HCPPs) contracting with the Secretary under Section 1833 of the Social Security Act are required to submit a budget and enrollment forecast, semi-annual interim report, and final cost report in accordance with 42 CFR 417.808 and 42 CFR 417.810. CMS is requesting approval for the reinstatement with change of Form CMS-276 (OCN: 0938-0165). This Cost Report outlines the provisions for implementing Section 1876(h) and Section 1833(a)(1)(A) of the Social Security Act. The purposes of the revisions were to implement some changes in response to the Affordable Care Act, clarify certain instructions, and update outdated issues within the Cost Report. Form Number: CMS-276 (OMB# 0938-0165); Frequency: Annually; Affected Public: Private Sector—Business or other for-profits and not-for-profit institutions; Number of Respondents: 29; Total Annual Responses: 106; Total Annual Hours: 1,384. (For policy questions regarding this collection contact Temeshia Johnson at 410-786-8692. For all other issues call 410-786-1326.)

2. Type of Information Collection Request: Reinstatement with change of a previously approved collection; Title of Information Collection: Medicare Provider Cost Report Reimbursement Questionnaire; Use: The purpose of Form CMS-339 is to assist the provider in preparing an acceptable cost report and to minimize subsequent contact between the provider and its Medicare Administrative Contractor (MAC). Form CMS-339 provides the basic data necessary to support the information in the cost report. Exhibit 1of Form CMS-339 contains a series of reimbursement-oriented questions which serve to update information on the operations of the provider. It is arranged topically regarding financial activities such as independent audits, provider organization and operation, etc. The MAC is responsible for the settlement of the Medicare cost report and must determine the reasonableness and the accuracy of the reimbursement claimed. This process includes performing both a desk review of the cost report and an analysis leading to a decision to settle the cost report with or without further audit. Form CMS-339 provides essential information to enable the MAC to make the audit or no audit decision, scope of the audit if one is necessary, and to update the provider documentation (i.e., documentation to support the financial profile of the provider). If the information is not collected, the MAC will have to go onsite to each provider to get this information. Consequently, it is far less burdensome and extremely cost effective to capture this information through the Form CMS-339.

Exhibit 2 of Form CMS-339 is a listing of bad debts pertaining to uncollectible Medicare deductible and coinsurance amounts. Preparation of the listing is a convenient way for providers to supply the MAC with information needed to determine the allow ability of the bad debts for reimbursement. Some items required to determine allow ability that are included on this exhibit are patient's name, dates of service, date first bill sent to beneficiary, and date the collection effort ceased. Supplying the MAC with this information may be all that is required for the MAC to determine whether or not the bad debt is allowable. This too may eliminate a visit to the provider to gather this needed data. Form Number: CMS-339 (OCN: 0938-0301); Frequency: Yearly; Affected Public: Private Sector—Business or other for-profits and not-for-profit institutions; Number of Respondents: 17,939; Total Annual Responses: 17,939; Total Annual Hours: 53,817. (For policy questions regarding this collection contact Christine Dobrzycki at 410-786-3389. For all other issues call 410-786-1326.)

To obtain copies of the supporting statement and any related forms for the proposed paperwork collections referenced above, access CMS' Web site address at http://www.cms.hhs.gov/PaperworkReductionActof1995, or Email your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by April 1, 2013:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number _________, Room C4-26-05, 7500 Security Boulevard, Baltimore, Maryland 21244-1850.

Dated: January 24, 2013.
Martique Jones,
Deputy Director, Regulations Development Group, Office of Strategic Operations and Regulatory Affairs.

[FR Doc. 2013-01849 Filed 1-29-13; 8:45 am]

BILLING CODE 4120-01-P